DEPARTMENT OF ENERGY

Federal Energy Regulatory Commission

Combined Notice of Filings #2

Take notice that the Commission received the following electric rate filings:

Docket Numbers: ER10-2290-007.

Applicants: Avista Corporation.

Description: Supplement to July 1, 2019 Triennial Market Power Update for the Northwest Region of Avista Corporation.

Filed Date: 11/13/19.

Accession Number: 20191113-5132.

Comments Due: 5 p.m. ET 12/4/19.

Docket Numbers: ER12-162-025; ER11-2044-030; ER13-1266-026; ER15-2211-023.

Applicants: MidAmerican Energy Company, Bishop Hill Energy II LLC, CalEnergy, LLC, MidAmerican Energy Services, LLC.

Description: Notice of Non-Material Change in Status of the Berkshire Hathaway Central Parties.

Filed Date: 11/12/19.

Accession Number: 20191112-5334.

Comments Due: 5 p.m. ET 12/3/19.

Docket Numbers: ER19-342-002.

Applicants: Lancaster County Solid Waste Management.

Description: Report Filing: Refund Report to be effective N/A.

Filed Date: 11/13/19.

Accession Number: 20191113-5104.

Comments Due: 5 p.m. ET 12/4/19.

Docket Numbers: ER19-342-003.

Applicants: Lancaster County Solid Waste Management.

Description: Compliance filing: Settlement Compliance Filing to be effective 1/1/2019.

Filed Date: 11/13/19.

Accession Number: 20191113-5108.

Comments Due: 5 p.m. ET 12/4/19.

Docket Numbers: ER19-2448-001.

Applicants: Midcontinent Independent System Operator, Inc., MidAmerican Energy Company.

Description: Tariff Amendment: 2019-11-13_SA 3334 MidAmerican-RPGI Substitute WDS (La Porte) to be effective 11/1/2019.

Filed Date: 11/13/19.

Accession Number: 20191113-5105.

Comments Due: 5 p.m. ET 12/4/19.

Docket Numbers: ER19-2557-000.

Applicants: Missisquoi, LLC.

Description: Report Filing: Refund Report in Docket No. ER19-2557 to be effective N/A.

Filed Date: 11/13/19.

Accession Number: 20191113-5036.

Comments Due: 5 p.m. ET 12/4/19.

Docket Numbers: ER19-2557-001.

Applicants: Missisquoi, LLC.

Description: Compliance filing: Missisquoi MBR Tariff to be effective 10/8/2019.

Filed Date: 11/13/19.

Accession Number: 20191113-5070.

Comments Due: 5 p.m. ET 12/4/19.

Docket Numbers: ER20-366-000.

Applicants: Genbright LLC.

Description: Petition for Limited Waiver, et al. of Genbright LLC.

Filed Date: 11/13/19.

Accession Number: 20191113-5012.

Comments Due: 5 p.m. ET 11/27/19.

Docket Numbers: ER20-367-000.

Applicants: PJM Interconnection, L.L.C.

Description: § 205(d) Rate Filing: Amendment to ISA, SA No. 4225; Queue No. V1-011 (amend) to be effective 10/3/2014.

Filed Date: 11/13/19.

Accession Number: 20191113-5069.

Comments Due: 5 p.m. ET 12/4/19.

Docket Numbers: ER20-368-000.

Applicants: PJM Interconnection, L.L.C.

Description: § 205(d) Rate Filing: Original WMPA No. 5498; Queue No. AE1-074 to be effective 11/13/2019.

Filed Date: 11/13/19.

Accession Number: 20191113-5109.

Comments Due: 5 p.m. ET 12/4/19.

Docket Numbers: ER20-369-000.

Applicants: PacifiCorp.

Description: § 205(d) Rate Filing: Tri-State Master Installation, O M Agmt for Metering (Rev 2) to be effective 1/13/2020.

Filed Date: 11/13/19.

Accession Number: 20191113-5129.

Comments Due: 5 p.m. ET 12/4/19.

Docket Numbers: ER20-370-000.

Applicants: City Power & Gas, LLC.

Description: Baseline eTariff Filing: Market-Based Rate Tariff Application to be effective 11/13/2019.

Filed Date: 11/13/19.

Accession Number: 20191113-5142.

Comments Due: 5 p.m. ET 12/4/19.

Docket Numbers: ER20-371-000.

Applicants: Midcontinent Independent System Operator, Inc.

Description: § 205(d) Rate Filing: 2019-11-13_SA 2951 Northern States Power-MDU 1st Rev GIA (J316) to be effective 10/28/2019.

Filed Date: 11/13/19.

Accession Number: 20191113-5143.

Comments Due: 5 p.m. ET 12/4/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 13, 2019.
Nathaniel J. Davis, Sr.,
Deputy Secretary.

[FR Doc. 2019-25027 Filed 11-18-19; 8:45 am]

BILLING CODE 6717-01-P